OFFICE OF PERSONNEL MANAGEMENT

5 CFR Part 532

RIN 3206-AN10

Prevailing Rate Systems; Redefinition of Certain Appropriated Fund Federal Wage System Wage Areas

AGENCY: U.S. Office of Personnel Management.

ACTION: Proposed rule with request for comments.

SUMMARY: The U.S. Office of Personnel Management (OPM) is issuing a proposed rule that would redefine the geographic boundaries of several appropriated fund Federal Wage System (FWS) wage areas for pay-setting purposes. Based on recent reviews of Metropolitan Statistical Area (MSA) boundaries in a number of wage areas, OPM proposes redefinitions affecting the following wage areas: Washington, DC; Hagerstown-Martinsburg-Chambersburg, MD; Minneapolis-St. Paul, MN; Charlotte, NC; Columbia, SC, and Southwestern Wisconsin. In addition, this proposed rule would make three minor corrections to the Miami, FL; Columbus, GA, and Kansas City, MO, wage areas.

DATES: We must receive comments on or before December 1, 2014.

ADDRESSES: You may submit comments, identified by “RIN 3206-AN10,” using any of the following methods:

Federal eRulemaking Portal: http://www.regulations.gov. Follow the instructions for submitting comments.

Mail: Brenda L. Roberts, Acting Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule to redefine the geographic boundaries of several appropriated fund FWS wage areas. These changes are based on recommendations of the Federal Prevailing Rate Advisory Committee (FPRAC), the statutory national labor-management committee responsible for advising OPM on matters affecting the pay of FWS employees. From time to time, FPRAC reviews the boundaries of wage areas and provides OPM with recommendations for changes if the Committee finds that changes are warranted.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting MSAs for the purpose of defining a wage area, except in very unusual circumstances.

The Office of Management and Budget defines MSAs and maintains and updates the definitions of MSA boundaries following each decennial census. MSAs are composed of counties and are defined on the basis of a central urbanized area—a contiguous area of relatively high population density. Additional surrounding counties are included in MSAs if they have strong social and economic ties to central counties.

When the boundaries of wage areas were first established in the 1960s, there were fewer MSAs than there are today and the boundaries of the then existing MSAs were much smaller. Most MSAs were contained within the boundaries of a wage area. MSAs have expanded each decade and in some cases now extend beyond the boundaries of the wage area.

FPRAC recently reviewed several wage areas where boundaries subdivide certain MSAs and concurred by consensus with the changes described in this proposed rule. These changes would be effective on the first day of the first applicable pay period beginning on or after 30 days following publication of the final regulations.

Washington-Arlington-Alexandria, DC-MD-VA-WV MSA

Washington, DC; Calvert, Charles, Frederick, Montgomery, and Prince George's Counties, MD; Alexandria, Fairfax, Falls Church, Fredericksburg, Manassas, and Manassas Park Cities, VA; Arlington, Clarke, Culpeper, Fairfax, Fauquier, Loudoun, Prince William, Rappahannock, Spotsylvania, Stafford, and Warren Counties, VA; and Jefferson County, WV, comprise the Washington-Arlington-Alexandria, DC-MD-VA-WV MSA. The Washington-Arlington-Alexandria, DC-MD-VA-WV MSA is split between the Washington, DC, wage area and the Hagerstown-Martinsburg-Chambersburg, MD, wage area. Washington, DC; Charles, Frederick, Montgomery, and Prince George's Counties, MD; Alexandria, Fairfax, Falls Church, Manassas, and Manassas Park Cities, VA; and Arlington, Fairfax, Loudoun, and Prince William Counties, VA, are part of the Washington, DC, survey area. Calvert and St. Mary's Counties, MD; Fredericksburg City, VA; Clarke, Fauquier, King George, Spotsylvania, Stafford, and Warren Counties, VA; and Jefferson County, WV, are part of the Washington, DC, area of application. Culpeper and Rappahannock Counties, VA, are part of the Hagerstown-Martinsburg-Chambersburg area of application.

OPM proposes to redefine Culpeper and Rappahannock Counties to the Washington, DC, area of application so that the entire Washington-Arlington-Alexandria, DC-MD-VA-WV MSA is in one wage area. There are seven FWS employees working in Culpeper County and one FWS employee working in Rappahannock County.

Rochester, MN MSA

Dodge, Fillmore, Olmsted, and Wabasha Counties, MN, comprise the Rochester, MN MSA. The Rochester, MN MSA is split between the Minneapolis-St. Paul, MN, wage area and the Southwestern Wisconsin wage area. Dodge, Olmsted, and Wabasha Counties are part of the Minneapolis-St. Paul area of application and Fillmore County is part of the Southwestern Wisconsin area of application.

OPM proposes to redefine Fillmore County to the Minneapolis-St. Paul area of application so that the entire Rochester, MN MSA is in one wage area. There are currently no FWS employees working in Fillmore County.

Charlotte-Concord-Gastonia, NC MSA

Cabarrus, Gaston, Iredell, Lincoln, Mecklenburg, Rowan, and Union Counties, NC, and Chester, Lancaster, and York Counties, SC; comprise the Charlotte-Concord-Gastonia, NC-SC MSA. The Charlotte-Concord-Gastonia MSA is split between the Charlotte, NC, wage area and the Columbia, SC, wage area. Cabarrus, Gaston, Mecklenburg, Rowan, and Union Counties, NC, are part of the Charlotte survey area; Iredell and Lincoln Counties, NC, and Lancaster and York Counties, SC, are part of the Charlotte area of application; and Chester County, SC, is part of the Columbia area of application.

OPM proposes to redefine Chester County to the Charlotte area of application so that the entire Charlotte-Concord-Gastonia, NC-SC MSA is in one wage area. There are currently no FWS employees working in Chester County.

Miscellaneous Corrections

In addition, this proposed rule would make the following minor corrections:

• Update the name of the Columbus Consolidated Government in the Columbus, GA, FWS wage area because Columbus is the official name of the entity resulting from the consolidation of the City of Columbus and Muscogee County in 1971.

• Update the name of Dade County in the Miami, FL, FWS wage area because the name of Dade County was officially changed to Miami-Dade County in 1997.

• Delete the name of the St. Louis, MO, wage area from the list of area of application counties in the Kansas City, MO, wage area because, due to a formatting error, the name of the St. Louis wage area was incorrectly printed as if it was an area of application county in the Kansas City wage area.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Katherine Archuleta,
Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings in paragraph (3), under the undesignated center heading Definitions of Wage and Wage Survey Areas, for the Washington, DC; Miami, FL; Columbus, GA; Hagerstown-Martinsburg-Chambersburg, MD; Minneapolis-St. Paul, MN; Kansas City, MO; Charlotte, NC; Columbia, SC, and Southwestern Wisconsin wage areas to read as follows:

Appendix C to Subpart B of Part 532—Appropriated Fund Wage and Survey Areas

* * * * *
DISTRICT OF COLUMBIA
Washington, DC
Survey Area
District of Columbia:
Washington, DC
Maryland:
Charles
Frederick
Montgomery
Prince George's
Virginia (cities):
Alexandria
Fairfax
Falls Church
Manassas
Manassas Park
Virginia (counties):
Arlington
Fairfax
Loudoun
Prince William
Area of Application. Survey area plus:
Maryland:
Calvert
St. Mary's
Virginia (city):
Fredericksburg
Virginia (counties):
Clarke
Culpeper
Fauquier
King George
Rappahannock
Spotsylvania
Stafford
Warren
West Virginia
Jefferson
* * * * *
FLORIDA
* * * * *
Miami
Survey Area
Florida:
Miami-Dade
Area of Application. Survey area plus:
Florida:
Broward
Collier
Glades
Hendry
Highlands
Martín
Monroe
Okeechobee
Palm Beach
St. Lucie
* * * * *
GEORGIA
* * * * *
Columbus
Survey Area
Alabama:
Autauga
Elmore
Lee
Macon
Montgomery
Russell
Georgia:
Chattahoochee
Columbus
Area of Application. Survey area plus:
Alabama:
Bullock
Butler
Chambers
Coosa
Crenshaw
Dallas
Lowndes
Pike
Tallapoosa
Wilcox
Georgia:
Harris
Marion
Quitman
Schley
Stewart
Talbot
Taylor
Troup
Webster
* * * * *
MARYLAND
* * * * *
Hagerstown-Martinsburg-Chambersburg
Survey Area
Maryland:
Washington
Pennsylvania:
Franklin
West Virginia:
Berkeley
Area of Application. Survey area plus:
Maryland:
Allegany
Garrett
Pennsylvania:
Fulton
Virginia (cities):
Harrisonburg
Winchester
Virginia (counties):
Frederick
Greene
Madison
Page
Rockingham
Shenandoah
West Virginia:
Hampshire
Hardy
Mineral
Morgan
* * * * *
MINNESOTA
* * * * *
Minneapolis-St. Paul
Survey Area
Minnesota:
Anoka
Carver
Chisago
Dakota
Hennepin
Ramsey
Scott
Washington
Wright
Wisconsin:
St. Croix
Area of Application. Survey area plus:
Minnesota:
Benton
Big Stone
Blue Earth
Brown
Chippewa
Cottonwood
Dodge
Douglas
Faribault
Fillmore
Freeborn
Goodhue
Grant
Isanti
Kanabec
Kandiyohi
Lac Qui Parle
Le Sueur
McLeod
Martin
Meeker
Mille Lacs
Morrison
Mower
Nicollet
Olmsted
Pope
Redwood
Renville
Rice
Sherburne
Sibley
Stearns
Steele
Stevens
Swift
Todd
Traverse
Wabasha
Wadena
Waseca
Watonwan
Yellow Medicine
Wisconsin:
Pierce
Polk
* * * * *
Missouri
Kansas City
Survey Area
Kansas:
Johnson
Leavenworth
Wyandotte
Missouri:
Cass
Clay
Jackson
Platte
Ray
Area of Application. Survey area plus:
Kansas:
Allen
Anderson
Atchison
Bourbon
Doniphan
Douglas
Franklin
Linn
Miami
Missouri:
Adair
Andrew
Atchison
Bates
Buchanan
Caldwell
Carroll
Chariton
Clinton
Cooper
Daviess
De Kalb
Gentry
Grundy
Harrison
Henry
Holt
Howard
Johnson
Lafayette
Linn
Livingston
Macon
Mercer
Nodaway
Pettis
Putnam
Saline
Schuyler
Sullivan
Worth
* * * * *
NORTH CAROLINA
* * * * *
Charlotte
Survey Area
North Carolina:
Cabarrus
Gaston
Mecklenburg
Rowan
Union
Area of Application. Survey area plus:
North Carolina:
Alexander
Anson
Catawba
Cleveland
Iredell
Lincoln
Stanly
Wilkes
South Carolina:
Chester
Chesterfield
Lancaster
York
* * * * *
SOUTH CAROLINA
* * * * *
Columbia
Survey Area
South Carolina:
Darlington
Florence
Kershaw
Lee
Lexington
Richland
Sumter
Area of Application. Survey area plus:
South Carolina:
Abbeville
Anderson
Calhoun
Cherokee
Clarendon
Fairfield
Greenville
Greenwood
Laurens
Newberry
Oconee
Orangeburg
Pickens
Saluda
Spartanburg
Union
* * * * *
WISCONSIN
* * * * *
Southwestern Wisconsin
Survey Area
Wisconsin:
Chippewa
Eau Claire
La Crosse
Monroe
Trempealeau
Area of Application. Survey area plus:
Minnesota:
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood
* * * * *

[FR Doc. 2014-25903 Filed 10-30-14; 8:45 am]

BILLING CODE 6325-39-P